DEPARTMENT OF COMMERCE

National Institute of Standards and Technology

Visiting Committee on Advanced Technology

AGENCY: National Institute of Standards and Technology, Department of Commerce.

ACTION: Notice of public meeting; correction.

SUMMARY: The National Institute of Standards and Technology (NIST) originally published a document announcing an upcoming meeting of the Visiting Committee on Advanced Technology (VCAT or Committee) on January 3, 2017 (82 FR 92). The meeting time, dates, and details have been updated. The VCAT will now meet by webinar in an open session on Wednesday, February 8, 2017 from 1:30 p.m. to 4:30 p.m. Eastern Time. The VCAT is composed of fifteen members appointed by the NIST Director who are eminent in such fields as business, research, new product development, engineering, labor, education, management consulting, environment, and international relations.

DATES: The VCAT will meet by webinar on Wednesday, February 8, 2017, from 1:30 p.m. to 4:30 p.m. Eastern Time.

ADDRESSES: The meeting will be conducted by webinar. Please note instructions under the SUPPLEMENTARY INFORMATION section of this notice for participation.

FOR FURTHER INFORMATION CONTACT: Serena Martinez, VCAT, NIST, 100 Bureau Drive, Mail Stop 1060, Gaithersburg, Maryland 20899-1060, telephone number 301-975-2661. Mrs. Martinez's email address is serena.martinez@nist.gov.

SUPPLEMENTARY INFORMATION:

Authority: 15 U.S.C. 278 and the Federal Advisory Committee Act, as amended, 5 U.S.C. App.

The purpose of this meeting is for the VCAT to review and make recommendations regarding general policy for NIST, its organization, its budget, and its programs within the framework of applicable national policies as set forth by the President and the Congress. The agenda will include an update on NIST, to include safety, and a discussion on future VCAT meeting topics and structure. NIST will also provide a brief update on the Administration and Congressional Landscape. The agenda may change to accommodate Committee business. The final agenda will be posted on the NIST Web site at http://www.nist.gov/director/vcat/agenda.cfm.

Members of the public can listen to the discussion by using a toll-free call-in number. When you register by email to Mrs. Serena Martinez, serena.martinez@nist.gov, with your name, organization affiliated with (if any), and email address, the toll-free call-in information, including passcode, will be provided to you. Callers can expect to incur regular charges for calls they initiate over wireless lines, according to their wireless plan. The Committee will not refund any incurred charges. Callers will incur no charges for calls they initiate over land-line connections to the toll-free call-in number. Individuals and representatives of organizations who would like to offer comments and suggestions related to the Committee's affairs are invited to request a place on the agenda by email to Stephanie.shaw@nist.gov, no later than January 31, 2017 by 5:00 p.m. Eastern Time. Approximately one-half hour will be reserved for public comments and speaking times will be assigned on a first-come, first-serve basis. The amount of time per speaker will be determined by the number of requests received, but is likely to be about 3 minutes each. The exact time for public comments will be included in the final agenda that will be posted on the NIST Web site at http://www.nist.gov/director/vcat/agenda.cfm. Questions from the public will not be considered during this period. Speakers who wish to expand upon their oral statements, and those who had wished to speak but could not be accommodated on the agenda are invited to submit written statements to VCAT, NIST, 100 Bureau Drive, MS 1060, Gaithersburg, Maryland, 20899, via fax at 301-216-0529 or electronically by email to stephanie.shaw@nist.gov .

Kevin Kimball,
NIST Chief of Staff.

[FR Doc. 2017-00756 Filed 1-13-17; 8:45 am]

BILLING CODE 3510-13-P